DEPARTMENT OF HOUSING AND URBAN DEVELOPMENT

[Docket No. FR-4837-D-22]

Revocation and Redelegation of Fair Housing Assistance Program Authority

AGENCY: Office of the Assistant Secretary for Fair Housing and Equal Opportunity, HUD.

ACTION: Notice of revocation and redelegation of authority.

SUMMARY: The Assistant Secretary for Fair Housing and Equal Opportunity (FHEO) revokes all prior redelegations of authority made within the Office of the Assistant Secretary for FHEO under the Fair Housing Assistance Program. Within the exception of redelegation of authority to the FHEO Hub Directors, as set forth in the program regulations, the Assistant Secretary for FHEO redelegates this authority to the General Deputy Assistant Secretary.

EFFECTIVE DATE: July 25, 2003.

FOR FURTHER INFORMATION CONTACT: Karen A. Newton, Deputy Assistant Secretary for Operations and Management, Office of Fair Housing and Equal Opportunity, Department of Housing and Urban Development, 451 Seventh Street, SW., Room 5128, Washington, DC 20410-0001, telephone (202) 708-0768. (This is not a toll-free number.) Hearing- and speech-impaired individuals may access this number through TTY by calling the toll-free Federal Information Relay Service number at (800) 877-8339.

SUPPLEMENTARY INFORMATION: Through regulation (24 CFR 115.101(a)), the Secretary delegated the authority and responsibility for administering the Fair Housing Assistance Program, as provided in 24 CFR part 115, to the Assistant Secretary for FHEO. Also through regulation (24 CFR 115.101(b)), the Assistant Secretary for FHEO redelegated this authority to each Director of a Fair Housing Enforcement Center (now FHEO Hub Directors). In this notice, the Assistant Secretary for FHEO redelegates this authority to the General Deputy Assistant Secretary for FHEO and clarifies the change in title from “Fair Housing Enforcement Center Directors” to “FHEO Hub Directors.”

Section A. Authority Redelegated

The Assistant Secretary for FHEO redelegates the authority and responsibility for administering the Fair Housing Assistance Program, as provided in 24 CFR 115.101(b), to the General Deputy Assistant Secretary for FHEO and to the FHEO Hub Directors. The authority redelegated in this notice does not include the authority to make final decisions concerning the granting and maintenance of substantial equivalency certification and interim certification in accordance with 24 CFR 115.101(b). The authority redelegated in this notice also does not include the authority to issue or waive regulations.

Section B. Nomenclature Clarification

The redelegation of authority from the Assistant Secretary for FHEO to the Fair Housing Enforcement Center Directors remains intact, as set forth in 24 CFR 115.101(b), although the Fair Housing Enforcement Center Directors have been renamed FHEO Hub Directors. The FHEO Hub Directors have the same authority for the administration of the Fair Housing Assistance Program as the Fair Housing Enforcement Center Directors did when 24 CFR part 115 was published in 1996.

Section C. Authority Excepted

The authority redelegated in this notice does not include the authority to issue or waive regulations.

Section D. Authority To Further Redelegate

The General Deputy Assistant Secretary for FHEO may redelegate the authority provided in Section A of this notice. The FHEO Hub Directors may not redelegate the authority provided in 24 CFR 115.101(b).

Section C. Authority Revoked

All prior redelegations of authority made within the Office of the Assistant Secretary for FHEO to administer the Fair Housing Assistance Program are revoked, with the exception of the authority to the FHEO Hub Directors, as set forth in 24 CFR 115.101(b).

Authority: Section 7(d), Department of Housing and Urban Development Act (42 U.S.C. 3535(d)).

Dated: July 25, 2003.
Carolyn Y. Peoples,
Assistant Secretary for Fair Housing and Equal Opportunity.

[FR Doc. 03-19785 Filed 8-1-03; 8:45 am]

BILLING CODE 4210-28-P